DEPARTMENT OF LABOR

Bureau of Labor Statistics

Comment Request

AGENCY: Bureau of Labor Statistics, Department of Labor.

ACTION: Notice of solicitation of comments.

SUMMARY: The Department of Labor through the Bureau of Labor Statistics (BLS) is currently soliciting comments for the second major revision of the Occupational Injury and Illness Classification System (OIICS), current version 2.01. The last major revision occurred in 2011. BLS is responsible for the development and publication of occupational injury, illness, and fatality data. These data are compiled by the Survey of Occupational Injuries and Illnesses (SOII) and the Census of Fatal Occupational Injuries (CFOI) programs. The OIICS is used to classify certain case characteristics associated with the nonfatal and fatal work injury cases received by the programs.

DATES: Written comments must be submitted to the office listed in the Addresses section of this notice on or before February 1, 2018.

ADDRESSES: Send comments to Christen Byler, Office of Safety, Health and Working Conditions, Bureau of Labor Statistics, Room 3180, 2 Massachusetts Avenue NE., Washington, DC 20212 or by email to: OIICS-R@bls.gov.

FOR FURTHER INFORMATION CONTACT: Christen Byler, Office of Safety, Health and Working Conditions, Bureau of Labor Statistics, telephone number: 202-691-6252, or by email at: Byler.Christen@bls.gov.

SUPPLEMENTARY INFORMATION:

I. Background

The Occupational Injury and Illness Classification System is used to code case characteristics of nonfatal injuries and illnesses reported in the SOII and fatal injuries reported in CFOI. Cases are classified according to five code structures that describe the injury or illness and how it occurred:

• Nature of Injury or Illness: Describes the physical characteristics of the injury or illness.

• Part of Body Affected: Identifies the part of the body directly affected by the nature.

• Source of Injury or Illness: Identifies the object or substance that directly inflicted the injury or illness.

• Event or Exposure: Describes the manner in which the injury or illness was inflicted by the source.

• Secondary Source: Identifies other objects or substances, if any, that contributed to the event or exposure. The same code list is used for both source and secondary source.

The case characteristic classification structures are hierarchical with four levels of detail to facilitate the aggregation of information and to accommodate both variations in detail available on reporting forms and the needs of data users. For example, one user may wish to look at data for injuries involving all trucks (Source code 825); whereas, another user may be interested only in cases involving tractor trailer trucks (Source code 8254). With the 2011 adoption of OIICS 2.0, the numeric hierarchy also became an order of precedence within each of the characteristics, designating which codes should be given priority when multiple codes could be appropriate within a given case.

Each case characteristic structure is comprised of the following:

• Rules of precedence: Designates which division within the coded case characteristic, Event or Exposure, is to take precedence when more than one code might be applicable within the case.

• Rules of selection: Defines which codes should be used and how different coded case characteristics interact with each other, specifically event/source/secondary source and nature/part.

• Code descriptions: Provides detailed definitions for individual code categories and often gives examples of types of cases that are included or excluded from the category.

• Complete code list: Includes the codes and associated titles by themselves without the descriptions.

• Alphabetical indices.

The original Occupational Injury and Illness Classification System (OIICS) was released in December 1992. It was developed by the Bureau of Labor Statistics with input from data users and states participating in the BLS Occupational Safety and Health (OSH) Federal/State cooperative programs. It was ultimately based on the American National Standards Institute (ANSI) Z16.2-1962, Method of Recording Basic Facts Relating to the Nature and Occurrence of Work Injuries, revised 1969. In addition, certain portions are based on the International Statistical Classification of Diseases and Related Health Problems, 9th Revision, Clinical Modification (ICD-9 CM), which is widely used in the medical community.

After its adoption in 1992, OIICS was approved for use as the American National Standard for Information Management for Occupational Safety and Health in 1995 (ANSI Z16.2-1995). In addition to the BLS occupational safety and health statistics program, the OIICS is used by several state workers' compensation agencies, the National Institute for Occupational Safety and Health, and other organizations.

In September 2007, the OIICS underwent a minor update to incorporate various interpretations and corrections. A major revision followed resulting in OIICS version 2.0 with an additional minor update culminating in version 2.01. Version 2.0 was adopted with reference year 2011 and was considered a major break in series. Included were major changes to rules of selection, new code births, as well as the introduction of rules of precedence designated by the numeric hierarchy of the structures. The current version of the OIICS (2.01) is available on the BLS Web site at http://www.bls.gov/iif/oshoiics.htm.

II. Current Action

A second major revision of OIICS was initiated in spring 2017. This revision is intended to update the classification system to:

• Include new or emerging conditions or workplace hazards that could potentially result from an incident or exposure in the workplace.

• Provide for data aggregations not available with the current OIICS.

• Explore the need for new or expanded coding structures to capture other case characteristics, for example worker activity.

• Improve and clarify order of precedence and rules of selection.

• Improve the usability and layout of the OIICS manual.

In addition, BLS will review the International Statistical Classification of Diseases and Related Health Problems 10th Revision (ICD-10), new ANSI standards, international program comparisons, and other comparable coding structures to optimize the capture of actionable insights for safety intervention from BLS occupational safety and health data.

III. Desired Focus of Comments

Comments and recommendations are requested from the public on the following aspects of the OIICS:

• The layout and organization of the manual.

• The order of precedence and rules of selection of the five case characteristics (Nature of Injury or Illness, Part of Body Affected, Source of Injury or Illness, Secondary Source, Event or Exposure).

• Potential new coded characteristics (worker activity, work environment exposures, location, etc.).

• The code categories, including recommendations for additional categories, and for merging or deleting existing categories. (Please provide justifications where possible.)

• The descriptions of the code categories, including the lists of inclusions and exclusions.

• Alphabetical indices and other desired tools for coding assistance.

• Any other thoughts on the coding system.

Signed at Washington, DC, this 5th day of October 2017.
Kimberley Hill,
Chief, Division of Management Systems.

[FR Doc. 2017-22188 Filed 10-12-17; 8:45 am]

BILLING CODE 4510-24-P